DEPARTMENT OF HEALTH AND HUMAN SERVICES

National Institutes of Health

Center for Scientific Review; Amended Notice of Meeting

Notice is hereby given of a change in the meeting of the Center for Scientific Review Special Emphasis Panel, September 3, 2014, 2:00 p.m. to September 3, 2014, 4:00 p.m., National Institutes of Health, 6701 Rockledge Drive, Bethesda, MD, 20892 which was published in the Federal Register on August 11, 2014, 79 FR 46846.

The meeting will be held on September 25, 2014, 4:00 p.m. to 6:00 p.m. The meeting location remains the same. The meeting is closed to the public.

Dated: August 12, 2014.
Melanie J. Gray,
Program Analyst, Office of Federal Advisory Committee Policy.

[FR Doc. 2014-19498 Filed 8-15-14; 8:45 am]

BILLING CODE 4140-01-P